DEPARTMENT OF ENERGY

Federal Energy Regulatory Commission

[Project No. 2197-056]

Alcoa Power Generating Inc.; Notice Granting Late Intervention

November 8, 2002.

On September 6, 2002, the Commission issued a notice of the request for a temporary license amendment to deviate from reservoir drawdown schedules and refill requirements, filed August 29, 2002, by Alcoa Power Generating Inc., for the Yadkin Project No. 2197, located on the Yadkin/Pee Dee River in Montgomery, Stanley, Davidson, Rowan, and Davie Counties, North Carolina. The notice established October 7, 2002, as the deadline for filing motions to intervene in the proceeding.

On October 16, 2002, a motion to intervene was filed late by Mr. Jim L. Shuping. Granting the late motion to intervene will not unduly delay or disrupt the proceeding or prejudice other parties to it. Therefore, pursuant to Rule 214,¹ the late motion to intervene filed in this proceeding by Mr. Jim L. Shuping is granted, subject to the Commission's rules and regulations.

¹ 18 CFR 385.214 (2001).

Magalie R. Salas,
Secretary.

[FR Doc. 02-29138 Filed 11-15-02; 8:45 am]

BILLING CODE 6717-01-P